DEPARTMENT OF THE INTERIOR

National Park Service

[NPS-WASO-NAGPRA-14597; PPWOCRADN0-PCU00RP14.R50000]

Notice of Inventory Completion: Tennessee Valley Authority, Knoxville, TN

AGENCY: National Park Service, Interior.

ACTION: Notice.

SUMMARY: The Tennessee Valley Authority (TVA) has completed an inventory of human remains in consultation with the appropriate Federally recognized Indian tribes, and has determined that there is no cultural affiliation between the human remains and any present-day Federally recognized Indian tribes. Representatives of any Federally recognized Indian tribe not identified in this notice that wish to request transfer of control of these human remains should submit a written request to TVA. If no additional requestors come forward, transfer of control of the human remains to the Federally recognized Indian tribe stated in this notice may proceed.

DATES: Representatives of any Federally recognized Indian tribe not identified in this notice that wish to request transfer of control of these human remains should submit a written request with information in support of the request to TVA at the address in this notice by February 18, 2014.

ADDRESSES: Dr. Thomas O. Maher, TVA, 400 West Summit Hill Drive, WT11D, Knoxville TN 37902-1401, telephone (865) 632-7458, email tomaher@tva.gov.

SUPPLEMENTARY INFORMATION: Notice is here given in accordance with the Native American Graves Protection and Repatriation Act (NAGPRA), 25 U.S.C. 3003, of the completion of an inventory of human remains under the control of TVA. The human remains were removed from the Rudder site in Jackson County, AL.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by TVA professional staff in consultation with representatives of the University of Alabama and the Absentee-Shawnee Tribe of Oklahoma; Alabama-Coushatta Tribe of Texas (previously listed as the Alabama-Coushatta Tribes of Texas); Alabama-Quassarte Tribal Town; Cherokee Nation; Eastern Band of Cherokee Indians; Eastern Shawnee Tribe of Oklahoma; Kialegee Tribal Town; Poarch Band of Creeks (previously listed as the Poarch Band of Creek Indians of Alabama); Seminole Tribe of Florida (previously listed as the Seminole Tribe of Florida (Dania, Big Cypress, Brighton, Hollywood & Tampa Reservations)); Shawnee Tribe; The Chickasaw Nation; The Muscogee (Creek) Nation; The Seminole Nation of Oklahoma; Thlopthlocco Tribal Town; and the United Keetoowah Band of Cherokee Indians in Oklahoma.

History and Description of the Remains

From March 13 to November 14, 1939, human remains representing, at minimum, 5 individuals were removed from the Rudder site (1JA180), in Jackson County, AL. The Rudder site was excavated as part of TVA's Guntersville reservoir project by the Alabama Museum of Natural History (AMNH) at the University of Alabama, using labor and funds provided by the Works Progress Administration. Excavation of the land commenced after TVA had acquired this land for the Guntersville project. The excavation site was composed of a truncated trapezoidal mound with multiple construction periods and a smaller mound containing most of the burial units. This site was occupied during the Henry Island phase of the Mississippian culture (ca. A.D. 1200-1400). Details regarding this site may be found in An Archaeological Survey of Guntersville Basin on the Tennessee River in Northern Alabama by William S. Webb and Charles G. Wilder. The human remains excavated from the Rudder site have always been in the physical custody of the AMNH at the University of Alabama. The human remains include 2 adult females and 3 adult males. No known individuals were identified.

At the time of the excavation and removal of these human remains, the land from which the remains were removed was not the tribal land of any federally recognized Indian tribe. In October 2013, TVA consulted with all federally recognized Indian tribes who are recognized as aboriginal to the area from which these Native American human remains were removed. These tribes are the Cherokee Nation, Eastern Band of Cherokee Indians, and United Keetoowah Band of Cherokee Indians in Oklahoma. None of these Indian tribes agreed to accept control of the human remains. After further consultation with the parties that were a part of this overall consultation, TVA has decided to transfer control of the human remains to the Muscogee (Creek) Nation of Oklahoma.

Determinations Made by the Tennessee Valley Authority

Officials of TVA have determined that:

• Pursuant to 25 U.S.C. 3001(9), the human remains described in this notice are Native American based on their presence below, but not derived from, a large trapezoidal mound built during the Henry Island phase (AD 1200-1400).

• Pursuant to 25 U.S.C. 3001(9), the human remains described in this notice represent the physical remains of 5 individuals of Native American ancestry.

• Pursuant to 25 U.S.C. 3001(2), a relationship of shared group identity cannot be reasonably traced between the Native American human remains and any present-day Indian tribe.

• Pursuant to 43 CFR 10.11(c)(2)(i), TVA has decided to transfer control of the culturally unidentifiable human remains to the Muscogee (Creek) Nation.

Additional Requestors and Disposition

Representatives of any Federally recognized Indian tribe not identified in this notice that wish to request transfer of control of these human remains should submit a written request with information in support of the request to Dr. Thomas O. Maher, TVA, 400 West Summit Hill Drive, WT11D, Knoxville, TN 37902-1401, telephone (865) 632-7458, email tomaher@tva.gov, by February 18, 2014. After that date, if no additional requestors have come forward, transfer of control of the human remains to The Muscogee (Creek) Nation may proceed.

TVA is responsible for notifying the University of Alabama and the Absentee-Shawnee Tribe of Oklahoma; Alabama-Coushatta Tribe of Texas (previously listed as the Alabama-Coushatta Tribes of Texas); Alabama-Quassarte Tribal Town; Cherokee Nation; Eastern Band of Cherokee Indians; Eastern Shawnee Tribe of Oklahoma; Kialegee Tribal Town; Poarch Band of Creeks (previously listed as the Poarch Band of Creek Indians of Alabama); Seminole Tribe of Florida (previously listed as the Seminole Tribe of Florida (Dania, Big Cypress, Brighton, Hollywood & Tampa Reservations)); Shawnee Tribe; The Chickasaw Nation; The Muscogee (Creek) Nation; The Seminole Nation of Oklahoma; Thlopthlocco Tribal Town; and the United Keetoowah Band of Cherokee Indians in Oklahoma, that this notice has been published.

Dated: December 2, 2013.
Melanie O'Brien,
Acting Manager, National NAGPRA Program.

[FR Doc. 2014-00803 Filed 1-15-14; 8:45 am]

BILLING CODE 4312-50-P